DEPARTMENT OF THE INTERIOR

Bureau of Safety and Environmental Enforcement (BSEE)

[Docket ID: BSEE-2014-0003; 14XE8370SD ED1OS0000.JAE000 EEGG000000]

Notice of Further Revisions to the National Preparedness for Response Exercise Program (PREP) Guidelines

AGENCY: Bureau of Safety and Environmental Enforcement, Interior.

ACTION: Notice.

SUMMARY: This notice announces that the National Scheduling Coordination Committee (NSCC), which is comprised of representatives from the U.S. Coast Guard (USCG), Environmental Protection Agency (EPA), Pipeline and Hazardous Materials Safety Administration (PHMSA), and BSEE, is making additional changes to the National Preparedness for Response Exercise Program (PREP) Guidelines. The NSCC will announce the availability of an updated draft of the revised PREP Guidelines and invite public comment at a future date. The future invitation to comment will be published in the Federal Register by the USCG, on behalf of the NSCC, and will use docket USCG-2011-1178.

ADDRESSES: The public docket for any materials submitted during the previous comment period that ended April 24, 2014 (79 FR 16363), is available online at http://www.regulations.gov. Type BSEE-2014-0003 into the search field and click “Search.” Follow the instructions at that Web site to view materials and public comments that are available in the docket.

FOR FURTHER INFORMATION CONTACT:

For BSEE: Mr. John Caplis, Oil Spill Response Division, 703-787-1364.

For USCG: LCDR Wes James, Office of Marine Environmental Response Policy, 202-372-2136.

For EPA: Mr. Troy Swackhammer, Office of Emergency Management, Regulation and Policy Development Division, 202-564-1966.

For PHMSA: Mr. Ed Murphy, Office of Pipeline Safety, 202-366-4595.

SUPPLEMENTARY INFORMATION: On February 22, 2012, the USCG published, on behalf of the NSCC, a notice and request for public comments in the Federal Register (77 FR 10542, docket USCG-2011-1178), which provided advance notice that the NSCC agencies planned to update the 2002 PREP Guidelines. During the 60-day comment period, the USCG, on behalf of the NSCC, received 214 comments in the docket. The NSCC agencies subsequently revised the 2002 PREP Guidelines to reflect the comments received in the docket, as well as NSCC member agency organizational changes, lessons learned from past incidents, and the addition of new regulatory requirements, including the addition of the USCG's Salvage and Marine Firefighting (SMFF) regulations.

On March 25, 2014, BSEE published a notice in the Federal Register (79 FR 16363), on the behalf of the NSCC, announcing the availability of an updated draft of the PREP Guidelines document and requesting public comments. The NSCC is currently amending the updated draft of the PREP Guidelines to address the comments received in response to the notice in 79 FR 16363, and will also be incorporating additional guidance pertaining to the new regulatory requirements for nontank vessel response plans. The NSCC will solicit public comment on the entirety of the updated PREP Guidelines at a future date when the aforementioned changes have been incorporated, and the revised draft of the updated Guidelines is ready for public viewing. The future invitation to comment will be published by the USCG, on behalf of the NSCC, in the Federal Register and will use a different docket ID number (USCG-2011-1178).

Dated: July 2, 2014.
David M. Moore,
Chief, Oil Spill Response Division, Bureau of Safety and Environmental Enforcement.

[FR Doc. 2014-16696 Filed 7-15-14; 8:45 am]

BILLING CODE 4310-VH-P